DEPARTMENT OF TRANSPORTATION

Federal Motor Carrier Safety Administration

[Docket No. FMCSA-2022-0103]

Commercial Driver's License Standards: Stevens Transport, Inc.; Application for Exemption

AGENCY: Federal Motor Carrier Safety Administration (FMCSA), DOT.

ACTION: Notice of application for exemption; request for comments.

SUMMARY: FMCSA announces that Stevens Transport, Inc. (Stevens) has applied for an exemption from the provisions in our regulations that require a commercial learner's permit (CLP) holder to be accompanied by a commercial driver's license (CDL) holder with the proper CDL class and endorsements seated in the front seat of the vehicle while the CLP holder performs behind-the-wheel training on public roads or highways. The exemption would allow a CLP holder who has passed the skills test but not yet received the CDL document to drive a Stevens commercial motor vehicle (CMV) accompanied by a CDL holder who is not necessarily in the passenger seat, provided the driver has documentation of passing the skills test. FMCSA requests public comment on the applicant's request for exemption.

DATES: Comments must be received on or before July 14, 2022.

ADDRESSES: You may submit comments identified by Federal Docket Management System (FDMS) Number FMCSA-2022-0103 by any of the following methods:

• Federal eRulemaking Portal: www.regulations.gov. See the Public Participation and Request for Comments section below for further information.

• Mail: Dockets Operations, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m. E.T., Monday through Friday, except Federal holidays.

• Fax: (202) 493-2251.

Each submission must include the Agency name and the docket number (FMCSA-2022-0103) for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, without edit, including any personal information the commenter provides, to www.regulations.gov, as described in the system of records notice DOT/ALL 14-FDMS, which can be reviewed at https://www.transportation.gov/privacy.

FOR FURTHER INFORMATION CONTACT: Mr. Richard Clemente, Driver and Carrier Operations Division; Office of Carrier, Driver and Vehicle Safety Standards, FMCSA, at (202) 366-2722 or by email at MCPSD@dot.gov. If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2022-0103), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number (“FMCSA-2022-0103”) in the “Keyword” box, and click “Search.” When the new screen appears, click on the “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including any safety analyses that have been conducted. The Agency must provide an opportunity for public comment on the request.

The Agency reviews safety analyses and public comments submitted and determines whether granting the exemption would likely achieve a level of safety equivalent to, or greater than, the level that would be achieved by the current regulation (49 CFR 381.305). The Agency must publish its decision in the Federal Register (49 CFR 381.315(b)) with the reasons for denying or granting the application and, if granted, the name of the person or class of persons receiving the exemption and the regulatory provision from which the exemption is granted. The notice must specify the effective period and explain the terms and conditions of the exemption. The exemption may be renewed (49 CFR 381.300(b)).

III. Background

Current Regulatory Requirements

FMCSA's commercial driver's license (CDL) regulations prescribe minimum training conditions for behind-the-wheel training of a commercial learner's permit (CLP) holder in 49 CFR 383.25. Section 383.25(a)(1) requires that a CLP holder must at all times be accompanied by a CDL holder with the proper CDL class and endorsements. The CDL holder must be seated in the front seat of the commercial motor vehicle (CMV) while the CLP holder performs behind-the-wheel training on public roads or highways.

Applicant's Request

Stevens Transport, Inc. (Stevens) requests an exemption from 49 CFR 383.25(a)(1) to allow CLP holders who have successfully passed a CDL skills test and are thus eligible to receive a CDL, to drive a CMV without a CDL holder always present in the front passenger seat. The exemption will allow Stevens to immediately employ a qualified driver to transport freight while the driver's CDL documentation is being processed by the driver's State of domicile. Stevens recruits and develops driver candidates through the Stevens Driving Academy, and several affiliated commercial driving schools that provide CDL training in a number of States, including Colorado, Louisiana, Georgia, Florida, and Tennessee. Stevens graduates approximately 3,150 new drivers each year. Prior to the implementation of section 383.25(a)(1), the driver's State of domicile routinely issued temporary CDLs to drivers who had successfully passed a CDL skills test in their state, which made it possible for Stevens to immediately designate a new driver as on duty, and direct that driver to their State of domicile to obtain CDL documentation without entering a second driver into an on-duty status. This translated into immediate productive freight movement for Stevens and compensation for the new driver.

Stevens is currently not able to employ new drivers until their home States issue a CDL and must choose either to wait for the driver to obtain a CDL from their home State before starting on-duty freight operations or send the driver home in an unproductive non-driving capacity. The result for Stevens is supply chain inefficiency and a lost employment opportunity for a new driver. In addition, as States may take weeks to properly document and update the status of a new driver's license after passing the CDL skills test, Stevens is again not able to employ the driver without requiring a second driver in the front seat of the CMV. This administrative waiting period has caused a significant burden on Stevens's operations. Stevens requested a 2-year exemption.

IV. Equivalent Level of Safety

Stevens indicates that the exemption will result in a level of safety that is greater than the level of safety without the exemption, as the only difference between a CLP holder who has passed the CDL skills test and a CDL holder is that the latter has obtained a hard copy of the CDL document from the home state's Department of Motor Vehicles (DMV). The practical result of the exemption, if granted, is that a CLP holder who has passed a CDL skills test would be able to drive without complying with 49 CFR 383.25(a)(1) and begin immediate and productive on-the-job training. According to Stevens, this will allow them to hone their recently acquired driving skill set and put them to work as a productive employee. If the exemption is not granted, Stevens will not be able to immediately begin training and employing new drivers due in large measure to DMV delays in delivering CDL documents. Stevens believes it is the safer approach to allow these new drivers to begin practicing their driving skills immediately under the requested exemption.

The exemption would apply only to those drivers who passed the CDL skills test, hold a CLP, and operate the CMV under supervision of a CDL holder who is somewhere in the vehicle. Stevens will ensure this level of safety by maintaining proper, up-to-date records for all drivers in possession of a CLP who have passed the CDL skills test.

A copy of Stevens' application for exemption is available for review in the docket for this notice.

V. Request for Comments

In accordance with 49 U.S.C. 31315(b), FMCSA requests public comment from all interested persons on Stevens' application for an exemption from the requirement in 49 CFR 383.25(a)(1). All comments received before the close of business on the comment closing date indicated at the beginning of this notice will be considered and will be available for examination in the docket at the location listed under the ADDRESSES section of this notice. Comments received after the comment closing date will be filed in the public docket and will be considered to the extent practicable. In addition to late comments, FMCSA will continue to file, in the public docket, relevant information that becomes available after the comment closing date. Interested persons should continue to examine the public docket for new material.

Larry W. Minor,
Associate Administrator for Policy.

[FR Doc. 2022-12810 Filed 6-13-22; 8:45 am]

BILLING CODE 4910-EX-P